DEPARTMENT OF THE INTERIOR

Bureau of Land Management

[OR-130-1020-PH; GP02-0182]

Notice of Public Meeting, Eastern Washington Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Eastern Washington Resource Advisory Council (RAC), will meet as indicated below.

DATES: The Eastern Washington Resource Advisory Council (EWRAC) will meet on July 22, 2002, at the Spokane District Office, Bureau of Land Management, 1103 North Fancher Road, Spokane, Washington, 99212-1275.

FOR FURTHER INFORMATION CONTACT: Kathy Helm, Bureau of Land Management, Spokane District Office, 1103 N. Fancher Road, Spokane, Washington, 99212, or call (509) 536-1200.

SUPPLEMENTARY INFORMATION: The meeting will start at 8 a.m. and adjourn about 3 p.m. Topics on the meeting agenda include:

Proposed land exchange

Status of Juniper Dunes access

Cooperative Watershed Management

Future RAC meeting dates.

The entire meeting is open to the public. Information to be distributed to Council members is requested in written format 10 days prior to the Council meeting date. Public comment is scheduled for 10 a.m. to 12 noon.

Dated: June 17, 2002.
Karen Slater,
Group Manager, Intergovernmental Affairs, Bureau of Land Management.

[FR Doc. 02-17215 Filed 7-3-02; 4:37 pm]

BILLING CODE 4310-33-P